DEPARTMENT OF THE INTERIOR

Fish and Wildlife Service

[FWS-R3-ES-2009-N0065; 30120-1113-0000 D3]

Endangered and Threatened Wildlife and Plants; Post-Delisting Monitoring Plan for Bald Eagle (Haliaeetus leucocephalus)

AGENCY: Fish and Wildlife Service, Interior.

ACTION: Notice of availability of post-delisting monitoring plan.

SUMMARY: We, the Fish and Wildlife Service (Service), announce the availability of the final post-delisting monitoring plan (PDM Plan) for the bald eagle (Haliaeetus leucocephalus). The Endangered Species Act (ESA) requires that we implement a system, in cooperation with the States, to monitor effectively for at least 5 years the status of all species that have been recovered and no longer need ESA protection. In 2007, we removed the bald eagle in the contiguous 48 States from the Federal List of Threatened and Endangered Wildlife and Plants (delisted) due to recovery. Over a 20-year period, we will monitor the status of the bald eagle, at 5-year intervals.

ADDRESSES: To request a copy of the final PDM Plan, write to Jody Millar at our Rock Island Field Office: U.S. Fish and Wildlife Service, 1511 47th Avenue, Moline, IL 61265; or call (309) 757-5800. You may also request copies by e-mailing us at baldeaglePDM@fws.gov. Specify whether you want to receive a hard copy by U.S. mail or an electronic copy by e-mail. The final PDM Plan may also be downloaded from our regional Web site at http://www.fws.gov/midwest/Endangered or our bald eagle Web site at http://www.fws.gov/migratorybirds/baldeagle.htm.

FOR FURTHER INFORMATION CONTACT: Jody Millar (see ADDRESSES). Individuals who are hearing-impaired or speech-impaired may call the Federal Relay Service at 1-800-877-8337 for TTY assistance, 24 hours a day, 7 days a week.

SUPPLEMENTARY INFORMATION:

Background

In the 1970s, bald eagle surveys conducted by the Service, other cooperating agencies, and conservation organizations revealed that the bald eagle population was declining throughout the contiguous 48 States. On December 31, 1972, DDT was banned from use in the United States by the Environmental Protection Agency. The following year, the ESA (16 U.S.C. 1531-1544) was passed. In 1978, the bald eagle was listed throughout the contiguous 48 States as endangered except in Michigan, Minnesota, Wisconsin, Washington, and Oregon, where it was listed as threatened (43 FR 6233, February 14, 1978).

Listing the eagle under the ESA and banning of DDT and other harmful organochlorine chemicals resulted in significant increases in the breeding population of the species throughout the contiguous 48 States. On July 6, 1999, we published a proposed rule (64 FR 36454) to delist the bald eagle in the contiguous 48 States. This document included a draft monitoring plan and requested public comments. Slightly more than 10 percent of all comments we received on that proposal were concerned with post-delisting monitoring and the draft monitoring plan. Since then, we have revised the monitoring plan in response to the comments we received.

We published the notice of availability for the revised draft monitoring plan and the final rule on delisting simultaneously in the Federal Register (72 FR 37346) on July 9, 2007. After the comment period closed on October 9, 2007, we reviewed each comment we received and addressed those comments in the final bald eagle post-delisting monitoring plan that we make available now through this notice.

Section 4(g)(1) of the ESA requires that we implement a system, in cooperation with the States, to effectively monitor for not less than 5 years the status of all species that have been recovered and delisted. In order to meet the ESA's monitoring requirement and to facilitate efficient data collection, we have designed a sampling method capable of detecting substantial changes in the bald eagle population in the contiguous 48 States.

Monitoring will consist of collecting information on the number of nesting bald eagles in the contiguous 48 States using State collected data and stratified sampling based on density of identified bald eagle nest sites. Our Bald Eagle Monitoring Team will work cooperatively with the States, Tribes, other agencies, and partners to collect this information. We will analyze the information after each monitoring effort and will propose adjustments to the sampling design, if necessary. At the end of each 5th-year monitoring event, we will review all available information to determine the status of the bald eagle. If these data indicate that the estimated bald eagle population is experiencing significant decreases, we will initiate more intensive review or studies to determine the cause, or take action to re-list the bald eagle under Section 4 of the ESA, if necessary.

Monitoring under the post-delisting monitoring plan began in spring of 2009. We will publish a report on the results of the 2009 monitoring event within 1 year of survey and data analysis completion. This will be the first of our 5-year reports. The reports will be posted on our Web sites, http://www.fws.gov/midwest/Endangered and http://www.fws.gov/migratorybirds/baldeagle.htm.

In accordance with the Paperwork Reduction Act of 1995 (44 U.S.C. 3501 et seq.), the information collection and recordkeeping requirements included in the PDM Plan have been approved by the Office of Management and Budget (OMB) under OMB control number 1018-0143, which expires on November 30, 2012. An agency may not conduct or sponsor, and a person is not required to respond to, a collection of information unless it displays a currently valid OMB control number.

Author

The primary author of this document is Jody Millar (see ADDRESSES).

Authority

The authority for this action is the Endangered Species Act of 1973, as amended (16 U.S.C. 1531 et seq.)

Dated: May 28, 2010.
Lynn Lewis,
Assistant Regional Director, Ecological Services, Ft. Snelling, MN.

[FR Doc. 2010-13424 Filed 6-3-10; 8:45 am]

BILLING CODE 4310-55-P